INTERNATIONAL TRADE COMMISSION

[Inv. No. 337-TA-436]

In the Matter of Certain WAP-Compatible Wireless Communication Devices, Components Thereof, and Products Containing Same; Notice of Commission Decision Not to Review an Initial Determination Terminating the Investigation on the Basis of a Settlement Agreement and Withdrawal of the Complaint

AGENCY: International Trade Commission.

ACTION: Notice.

SUMMARY: Notice is hereby given that the U.S. International Trade Commission has determined not to review the presiding administrative law judge's (“ALJ's”) initial determination (“ID”) terminating the above-captioned investigation in its entirety based on a settlement agreement and withdrawal of the complaint.

FOR FURTHER INFORMATION CONTACT: Mary Beth Jones, Esq., Office of the General Counsel, U.S. International Trade Commission, 500 E Street, SW., Washington, DC 20436, telephone (202) 205-3106. Hearing-impaired persons are advised that information on this matter can be obtained by contacting the Commission's TDD terminal on (202) 205-1810. General information concerning the Commission may also be obtained by accessing its Internet server at http://www.usitc.gov.

SUPPLEMENTARY INFORMATION: The Commission instituted this investigation on October 11, 2000, based on a complaint filed by Geoworks Corporation of California (“complainant”). The complaint named three respondents, Phone.com, Inc., of California, Sanyo Electric Co., Ltd., of Japan, and Sanyo North America Corporation of California (“respondents”). Since the filing of the complaint, respondent Phone.com changed its name to Openwave Systems Inc.

On December 28, 2000, complainant and respondents filed a joint motion to terminate the investigation on the basis of a settlement agreement under Commission rule 210.21(b) and the withdrawal of the complaint under Commission rule 210.21(a). On January 8, 2001, the Commission investigative attorney filed a response supporting the joint motion. On January 9, 2001, the ALJ issued an ID (Order No. 9) granting the joint motion. No party petitioned for review of the ID.

The authority for the Commission's determination is contained in section 337 of the Tariff Act of 1930, as amended (19 U.S.C. 1337), and in section 210.42 of the Commission's rules of practice and procedure (19 CFR 210.42). Copies of the ALJ's ID and all other nonconfidential documents filed in connection with this investigation are or will be available for inspection during official business hours (8:45 a.m. to 5:15 p.m.) in the Office of the Secretary, U.S. International Trade Commission, 500 E Street, SW., Washington, DC 20436, telephone (202) 205-2000.

Issued: February 13, 2001.
By order of the Commission.
Donna R. Koehnke,
Secretary.

[FR Doc. 01-4016 Filed 2-15-01; 8:45 am]

BILLING CODE 7020-02-P